DEPARTMENT OF ENERGY

Federal Energy Regulatory Commission

[Docket No. EG05-53-000, et al.]

Blue Canyon Windpower II LLC, et al.; Electric Rate and Corporate Filings

March 16, 2005.

The following filings have been made with the Commission. The filings are listed in ascending order within each docket classification.

1. Blue Canyon Windpower II LLC

[Docket No. EG05-53-000]

Take notice that on March 14, 2005, Blue Canyon Windpower II LLC (Blue Canyon II) tendered for filing an application for a determination of exempt wholesale generator status, pursuant to section 32(a)(1) of the Public Utility Holding Company Act of 1935, as amended, (PUHCA), 15 U.S.C. 79z-5a(a)(1) (2000), and subchapter T, part 365 of the regulations of the Federal Energy Regulatory Commission, 18 CFR part 365 (2004).

Blue Canyon II states that it is a limited liability company organized and existing under the laws of the State of Texas that will construct, own and operate an approximately 150-megawatt wind farm located in southwestern Oklahoma. Blue Canyon II further states that it will be engaged directly, or indirectly through one or more affiliates as defined in section 2(a)(11)(B) of PUHCA, and exclusively in the business of owning an eligible facility, and selling electric energy at wholesale.

Comment Date: April 4, 2005.

2. American Electric Power Service Corporation Behalf of: Appalachian Power Company, Columbus Southern Power Company, Indiana Michigan Power Company, Kentucky Power Company, Kingsport Power Company, Ohio Power Company, Wheeling Power Company, Collectively, the “AEP Companies”; Commonwealth Edison Company and Commonwealth Edison Company of Indiana, Inc.; The Dayton Power and Light Company

[Docket No. EL05-74-000]

Take notice that on March 8, 2005, American Electric Power Service Corporation, Commonwealth Edison Company and Commonwealth Edison Company of Indiana, Inc., and Dayton Power and Light Company (collectively, Companies) filed an application pursuant to section 206 of the Federal Power Act to recover PJM Expansion Expenses under the PJM Open Access Transmission Tariff. The Companies request an order accepting the proposed Schedule 13—Expansion Cost Recovery Charges—effective May 1, 2005.

Comment Date: 5 p.m. Eastern Time on March 29, 2005.

3. Southern Indiana Gas and Electric Company

[Docket Nos. ER96-2734-004, ER05-412-002]

Take notice that on March 11, 2005, Southern Indiana Gas and Electric Company (Southern Indiana), tendered for filing supplemental information regarding its application for renewal of its market-based rate authority filed December 10, 2004 in Docket No. ER96-2734-003 and the revised tariff sheets to its market-based rate tariff filed December 10, 2004, as amended on January 28, 2005, in Docket Nos. ER05-412-000 and ER05-412-001.

Southern Indiana states that copies of the filing were served upon the official service list and the Indiana Utility Regulatory Commission.

Comment Date: 5 p.m. Eastern Time on April 1, 2005.

4. California Independent System Operator Corporation

[Docket No. ER02-1656-024]

Take notice that on March 14, 2005, the California Independent System Operator Corporation (ISO) submitted a filing to comply with the Commission's February 10, 2005 Order in Docket No. ER02-1656-021, 110 FERC ¶ 61,113. The ISO states that it has provided additional information to allow the Commission and the parties to evaluate the ISO's “perfect hedge” proposal which is an element of the ISO's proposed treatment of existing contracts under the ISO's Market Redesign and Technology Upgrade.

The ISO states that this filing has been served upon all parties on the official service list in this proceeding and in addition has posted this filing on the ISO Home Page.

Comment Date: 5 p.m. Eastern Time on April 4, 2005.

5. ISO New England Inc.

[Docket No. ER02-2330-035]

Take notice that on March 14, 2005, ISO New England Inc. (ISO), submitted a compliance filing providing a status report on the implementation of Standard Market Design in as required in New England Power Pool, et al., 100 FERC ¶ 61,287 (2002), New England Power Pool and ISO New England Inc., 101 FERC ¶ 61,344 (2002) and New England Power Pool, 102 FERC ¶ 61,112 (2003).

ISO states that copies of the filing were served on parties on the official service list and that electronic copies of the filing were served on all NEPOOL Participants Committee members.

Comment Date: 5 p.m. Eastern Time on April 4, 2005.

6. ISO New England Inc., et al.

[Docket No. ER05-374-004]

Take notice that, on March 14, 2005, ISO New England Inc., (ISO) and the New England transmission owners (consisting of Bangor Hydro-Electric Company; Central Maine Power Company; New England Power Company; Northeast Utilities Service Company on behalf of its operating companies: The Connecticut Light and Power Company, Western Massachusetts Electric Company, Public Service Company of New Hampshire, Holyoke Power and Electric Company, and Holyoke Water Power Company; NSTAR Electric & Gas Corporation on behalf of its operating affiliates: Boston Edison Company, Commonwealth Electric Company, Canal Electric Company, and Cambridge Electric Light Company; The United Illuminating Company; Vermont Electric Power Company, Inc.; Fitchburg Gas and Electric Light Company; and Unitil Energy Systems, Inc.) submitted a report in compliance with the Commission's order issued February 10, 2005, 109 FERC ¶ 61,147 (2005).

ISO states that copies of the filing have been served on all parties to this proceeding, on all Governance Participants (electronically), non-Participant Transmission Customers, and the governors and regulatory agencies of the six New England states.

Comment Date: 5 p.m. Eastern Time on April 4, 2005.

7. Virginia Electric and Power Company

[Docket No. ER05-700-000]

Take notice that on March 14, 2005, Virginia Electric and Power Company (VEPCO) tendered for filing an Appendix E-3 to the service agreement for Network Integration Transmission Service between Dominion North Carolina Power (Dominion) and North Carolina Electric Membership Corporation (NCEMC), under VEPCO's Open Access Transmission Tariff, FERC Electric Tariff Second Revised Volume No. 5. VEPCO states that the amended service agreement adds charges to reimburse Dominion for costs associated with the installation of Morrisburg Delivery Point for Edgecombe-Martin County Electric Membership Corporation. VEPCO requests an effective date of April 13, 2005.

VEPCO states that copies of the filing were served upon NCEMC, the Virginia State Corporation Commission and the North Carolina Utilities Commission.

Comment Date: 5 p.m. Eastern Time on April 4, 2005.

8. Virginia Electric and Power Company

[Docket No. ER05-701-000]

Take notice that on March 14, 2005, Virginia Electric and Power Company (VEPCO) tendered for filing copies of a letter agreement between the Dominion Virginia Power and Virginia Municipal Electric Association No. 1 (VMEA). VEPCO states that the letter agreement, dated December 17, 2004, provided for a temporary delivery point requested by VMEA to the Agreement for the Purchase of Electricity for Resale between Dominion and VMEA, First Revised Rate Schedule FERC No. 109. VEPCO requested an effective date of March 15, 2005.

Dominion states that copies of the filing were served upon VMEA, the Virginia State Corporation Commission and the North Carolina Utilities Commission.

Comment Date: 5 p.m. Eastern Time on April 4, 2005.

9. Deseret Generation & Transmission Co-operative, Inc.

[Docket No. ER05-702-000]

Take notice that on March 14, 2005 Deseret Generation & Transmission Co-operative, Inc. (Deseret) tendered for filing a rate filing and request for certain waivers relating to: (i) The Bonanza-Mona Transmission Entitlement Purchase and Sale Wheeling Service Agreement, dated March 21, 1990, by and between Deseret and Utah Associated Municipal Power Systems (UAMPS), designated as Rate Schedule FERC No. 21; and (ii) the Bonanza-Mona Operating Agreement, dated March 21, 1990, by and between Deseret and UAMPS, designated as Rate Schedule FERC No. 22.

Deseret states that copies of this filing have been served upon UAMPS.

Comment Date: 5 p.m. Eastern Time on April 4, 2005.

10. Public Service Electric and Gas Company, PSEG Energy Resources & Trade LLC

[Docket No. ER05-703-000]

Take notice that on March 14, 2005, Public Service Electric and Gas Company (PSE&G) and PSEG Energy Resources & Trade LLC (PSEG ER&T) submitted for filing a request for: (1) Waiver of the Commission's rules and their market-based rate tariffs and codes of affiliate conduct; and (2) authorization for sales of power by PSEG ER&T to PSE&G, in order for PSEG ER&T provide power to PSE&G under contracts resulting from the 2005 auction for Basic Generation Service approved by the New Jersey Board of Public Utilities.

PSE&G states that a copy of this filing has been served upon the New Jersey Board of Public Utilities.

Comment Date: 5 p.m. Eastern Time on April 4, 2005.

11. Michigan Electric Transmission Company, LLC

[Docket No. ER05-704-000]

Take notice that on March 14, 2005, Michigan Electric Transmission Company, LLC (METC) submitted a Letter Agreement between Wolverine Power Supply Cooperative, Inc. (Wolverine) and METC to establish the terms and conditions for engineering and related activities to be performed by METC in connection with a proposed interconnection to the METC transmission system by Wolverine.

Comment Date: 5 p.m. Eastern Time on April 4, 2005.

12. Wisconsin Electric Power Company

[Docket No. ER05-705-000]

Take notice that on March 14, 2005, Wisconsin Electric Power Company (Wisconsin Electric), tendered for filing a service agreement with GEN-SYS Energy, designated as Service Agreement No. 63, under Wisconsin Electric's FERC Electric Tariff, Original Volume No. 8. Wisconsin Electric requests an effective date of April 1, 2005.

Wisconsin Electric states that copies of the filing have been served on GEN-SYS Energy, the Michigan Public Service Commission, and the Public Service Commission of Wisconsin.

Comment Date: 5 p.m. Eastern Time on April 4, 2005.

13. Carolina Power & Light Company

[Docket No. ER05-706-000]

Take notice that on March 14, 2005, Carolina Power & Light Company (CP&L) tendered for filing Notices of Cancellation of FERC Electric Rate Schedule No. 50 with the City of Camden, SC; FERC Electric Rate Schedule No. 129 with the City of Fayetteville, NC; FERC Electric Rate Schedule No. 130 with the Town of Waynesville, NC; and FERC Electric Rate Schedule No. 131 with French Broad Electric Membership Corporation. CP&L has requested an effective date of May 15, 2005 for the cancellations.

CP&L states that a copy of this filing was served upon the affected customers and the North Carolina Utilities Commission and the South Carolina Public Service Commission.

Comment Date: 5 p.m. Eastern Time on April 4, 2005.

14. Maine Public Service Company

[Docket No. ER05-707-000]

Take notice that on March 11, 2005, Maine Public Service Company (MPS), pursuant to section 2.7 of the Settlement Agreement filed on February 28, 2001 in Docket No. ER01-1344-000 and accepted by Commission letter order issued on April 13, 2001, submitted an informational filing setting forth the changed loss factor effective March 1, 2005 together with back-up materials.

MPS states that copies of this filing were served on the parties to the Settlement Agreement, the Northern Maine Independent System Administrator, Inc., the Maine Public Utilities Commission, Commission Trial Staff, the Maine Public Advocate, and current MPS open access transmission tariff customers.

Comment Date: 5 p.m. Eastern Time on April 1, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Linda Mitry,
Deputy Secretary.

[FR Doc. E5-1290 Filed 3-23-05; 8:45 am]

BILLING CODE 6717-01-P